DEPARTMENT OF COMMERCE

National Oceanic and Atmospheric Administration

[I.D. 100703B]

Endangered Species; File No. 1448

AGENCY: National Marine Fisheries Service (NMFS), National Oceanic and Atmospheric Administration (NOAA), Commerce

ACTION: Receipt of application

SUMMARY: Notice is hereby given that the Northeast Fisheries Science Center, National Marine Fisheries Service, 166 Water Street, Woods Hole, MA 02543-1097, has applied in due form for a permit to take loggerhead (Caretta caretta), leatherback (Dermochelys coriacea), Kemp's ridley (Lepidochelys kempii), green (Chelonia mydas), and hawksbill (Eretmochelys imbricata) sea turtles for purposes of scientific research.

DATES: Written or telefaxed comments must be received on or before November 13, 2003.

ADDRESSES: The application and related documents are available for review upon written request or by appointment in the following office(s):

Permits, Conservation and Education Division, Office of Protected Resources, NMFS, 1315 East-West Highway, Room 13705, Silver Spring, MD 20910; phone (301) 713-2289; fax (301) 713-0376; and

Northeast Region, NMFS, One Blackburn Drive, Gloucester, MA 01930-2298; phone (978) 281-9200; fax (978) 281-9371.

FOR FURTHER INFORMATION CONTACT: Patrick Opay, (301) 713-1401 or Sarah Wilkin, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to conduct biological sampling of sea turtles incidentally taken in commercial fisheries in state waters and the Exclusive Economic Zone in the northwest Atlantic Ocean. The primary objectives of the proposed research are to determine the size and composition of populations of sea turtles found in the commercial fishing areas and to establish individual identities of turtles which will permit subsequent determination of growth rates, possible stock origins and movement patterns. The research will contribute to the understanding of the pelagic ecology of these species, permit more complete models of their population dynamics, and allow more reliable assessments of commercial fishery impacts.

The researchers will sample turtles which have already been taken in legally operating commercial fisheries operating from the Gulf of Maine through North Carolina. The applicant proposes to photograph, measure, scan for PIT tags, biopsy sample, flipper tag and transport 300 loggerhead, 85 leatherback, 10 Kemp's ridley, 10 green, and 10 hawksbill sea turtles annually. The applicant is requesting a 5 year permit. No mortalities are expected as a result of this research.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Dated: October 8, 2003.
Jill Lewandowski,
Acting Chief, Permits, Conservation and Education Division, Office of Protected Resources, National Marine Fisheries Service.

[FR Doc. 03-25925 Filed 10-10-03; 8:45 am]

BILLING CODE 3510-22-S